DEPARTMENT OF THE INTERIOR

National Park Service

[NPS-WASO-NRSS-EQD-11735; PPPWSAMOR6 PPMRSNR1Z.Y00000]

Agency Information Collection Activities: Assessment Tools for Park-Based Youth Education and Employment Experience Programs at Santa Monica Mountains National Recreation Area

AGENCY: National Park Service, Interior.

ACTION: Notice and request for comments.

SUMMARY: To comply with the Paperwork Reduction Act of 1995 (PRA), we (the National Park Service) are notifying the public that we have submitted to the Office of Management and Budget (OMB) an information collection request (ICR) for a proposed new collection. This notice provides the public and other Federal agencies an opportunity to comment on the paperwork burden of this collection.

DATES: To ensure that your comments on this ICR are considered, please submit them on or before December 27, 2012.

ADDRESSES: Please submit written comments on this information collection directly to the Office of Management and Budget (OMB) Office of Information and Regulatory Affairs, Attention: Desk Officer for the Department of the Interior via email to OIRA_SUBMISSION@omb.eop.gov or fax at 202-395-5806; and identify your submission as 1024-SAMO. Please also send a copy your comments to Phadrea Ponds, Information Collections Coordinator, National Park Service, 1201 Oakridge Drive, Fort Collins, CO 80525 (mail); or phadrea_ponds@nps.gov (email).

FOR FURTHER INFORMATION CONTACT: Antonio_Solorio@nps.gov (email); or by mail at Santa Monica Mountains National Recreation Area, 401 W. Hillcrest Drive; Thousand Oaks, CA 91360. You may also access this ICR at www.reginfo.gov.

I. Abstract

The Santa Monica Mountains National Recreation Area (SAMO) has three programs that provide continuous education and employment experience opportunities for students in the vicinity of the park. We use a series of surveys to objectively evaluate the short and long-term success of these environmental education programs. Areas of interest include: (1) Understanding and concern for natural and cultural resource conservation and stewardship and resulting behavior changes both inside and outside parks; (2) Awareness and feelings toward the National Park Service; (3) Recreational interests and activities; (4) Influences on family and friends' attitudes and behaviors; (5) Education and career choices; and (6) Usefulness of work experience.

The SHRUB program provides education and in-depth involvement for students and their families in grade school. The EcoHelpers program provides one-day service learning programs to high schools students. The SAMO Youth program provides progressive integrated work experience for high school and college students. While SAMO has many observational and anecdotal indications of success, no formal tools have been developed to evaluate these programs. The goal of this collection is to provide scientifically sound and reliable measures of outcomes for the three youth education and employment experience programs at SAMO. This assessment will be used to build the capacity of park youth program managers to help the park achieve its goal of continual program improvement and expanded documentation of program impact.

II. Data

OMB Number: 1024-NEW.

Title: Assessment Tools for Park-Based Youth Education and Employment Experience Programs at Santa Monica Mountains National Recreation Area.

Type of Request: This is a new collection.

Affected Public: General Public; College students, school aged children (elementary and high school), and teachers.

Respondent Obligation: Voluntary.

Estimated Annual Number of Responses: We expect to receive a total of 1,224 annual responses (1,204 students and 20 teachers).

| EcoHelpers | SHRUBS | SAMO Youth program | Total
Teachers | 12 | 8 | 0 | 20
Students | 720 | 384 | 100 | 1,204

Estimated Total Annual Burden Hours: 408 hours. We estimate an average of 20 minutes per response (2 minutes to read the instructions and 18 minutes to complete the survey instrument).

| EcoHelpers | SHRUBS | SAMO Youth program | Total
Annual Burden Hours | 135 | 240 | 33 | 408

Estimated Time and Frequency of Response: The EcoHelper, SHRUBS and SAMO students will be required to take two surveys (a pre- and post-visit survey); the teachers and SAMO Alumni participants will respond to one survey.

Estimated Reporting and Recordkeeping “Non-Hour Cost” Burden: We have not identified any “non-hour cost” burdens associated with this collection of information.

Public Disclosure Statement: The PRA (44 U.S.C. 3501, et seq.) provides that an agency may not conduct or sponsor a collection of information unless it displays a currently valid OMB control number.

III. Request for Comments

On January 30, 2012, we published a Federal Register notice (77 FR 4577) announcing that we would submit this ICR to OMB for approval and soliciting comments. The comment period closed on March 30, 2012. We did not receive any comments.

Comments are again invited on: (1) The practical utility of the information being gathered; (2) the accuracy of the burden hour estimate; (3) ways to enhance the quality, utility, and clarity of the information to be collected; and (4) ways to minimize the burden to respondents, including use of automated information techniques or other forms of information technology. All comments will become a matter of public record. While you can ask us in your comment to withhold personal identifying information from public review, we cannot guarantee that we will be able to do so.

Dated: November 14, 2012.
Madonna L. Baucum,
Information Collection Clearance Officer, National Park Service.

[FR Doc. 2012-28702 Filed 11-26-12; 8:45 am]

BILLING CODE 4312-EH-P